DEPARTMENT OF TRANSPORTATION

Federal Motor Carrier Safety Administration

[Docket No. FMCSA-2022-0195]

National Registry of Certified Medical Examiners: 10-Year Refresher Training and Recertification Testing Requirements

AGENCY: Federal Motor Carrier Safety Administration (FMCSA), Department of Transportation (DOT).

ACTION: Notice of implementation of medical examiner 10-year refresher training and recertification testing.

SUMMARY: FMCSA announces implementation of the regulatory requirement that all medical examiners certified and listed on the Agency's National Registry of Certified Medical Examiners (National Registry) maintain their certification by completing refresher training 4 to 5 and 9 to 10 years after certification and passing a recertification test 10 years after certification. The 5-year refresher training has been implemented and FMCSA is now proceeding with the 10-year training and testing. The required 10-year refresher training will be delivered by private sector training organizations in the same manner as the initial National Registry medical examiner training. The 10-year recertification test will be provided by the two FMCSA-approved testing organizations in the same manner as the initial National Registry medical examiner certification test. Medical examiners will be able to upload proof of completion of the 10-year training to their National Registry accounts and be eligible to take the 10-year recertification test starting January 1, 2023.

DATES: This announcement is effective on January 11, 2023.

FOR FURTHER INFORMATION CONTACT: Ms. Christine A. Hydock, Chief, Medical Programs Division, (202) 366-4001, fmcsamedical@dot.gov, FMCSA, DOT, 1200 New Jersey Avenue SE, Room W64-224, Washington, DC 20590-0001. Office hours are 8:30 a.m. to 5 p.m. ET, Monday through Friday, except Federal holidays. If you have questions regarding viewing material in the docket, contact Dockets Operations, (202) 366-9826.

SUPPLEMENTARY INFORMATION:

I. Legal Basis

Section 31149(d) of Title 49 of the United States Code, enacted by section 4116(a) of the Safe, Accountable, Flexible, Efficient Transportation Equity Act: A Legacy for Users, Public Law 109-59, 119 Stat. 1144, 1726 (Aug. 10, 2005), required FMCSA to establish and maintain a current national registry of certified medical examiners qualified to perform medical examinations and issue medical certificates. In addition, FMCSA was to develop requirements to become a medical examiner that included the completion of specific courses and materials, as well as passing a test (49 U.S.C. 31149(c)(1)(D)(i) and (iii))

In 2012, FMCSA issued a final rule establishing the National Registry (77 FR 24104). This rule also established training and testing requirements for medical professionals who conduct physical qualification examinations of interstate commercial motor vehicle drivers. To maintain certification and listing on the National Registry, medical examiners are required to complete periodic training specified by FMCSA no sooner than 4 years and no later than 5 years after the date of issuance of the medical examiner certification credential by FMCSA, and to complete periodic training and receive a passing score on the National Registry medical examiner certification test no sooner than 9 years and no later than 10 years after the date of the certification credential issued by FMCSA.

II. Background

In 2018, FMCSA initiated development of improvements to the National Registry system. The first medical examiners certified and listed on the National Registry were required by regulation to complete 5-year refresher training in January 2018. Because the information technology system improvements were not yet completed, FMCSA was unable to deliver the 5-year refresher training to meet that deadline. On July 14, 2022, FMCSA issued the 5-year refresher training to all medical examiners who were either past due or currently due for the training using their National Registry accounts. FMCSA notified eligible medical examiners who were past due for the training that they have until December 31, 2022, to complete the training.

III. 10-Year Refresher Training and Recertification Testing

Because of the delay issuing the 5-year refresher training and the extended timeframe offered for completion of that training, the programming to process the 10-year refresher training and recertification testing in the National Registry was also delayed. This functionality will be available starting on January 1, 2023. To ensure that all medical examiners have a full year to complete the required 10-year refresher training and pass the recertification test, medical examiners whose National Registry certification expires in 2023 (affected medical examiners) will have until December 31, 2023, to complete the 10-year refresher training and pass the recertification test. FMCSA will not take action against affected medical examiners, provided that they complete the training and pass the recertification test as specified in this notice.

The 5-year refresher training developed and issued by FMCSA and previously released to all medical examiners who were either due or past due for their 5-year refresher training will be made available as a resource to all training organizations that intend to provide the National Registry medical examiner 10-year refresher training. The 5-year refresher training will be posted on the Resource Center page of the National Registry website at https://nationalregistry.fmcsa.dot.gov/resource-center. In addition, training organizations can request a copy by contacting the National Registry Technical Support Help Desk at fmctechsup@dot.gov or (617) 494-3003. FMCSA encourages all training organizations to obtain a copy and incorporate the content of the 5-year refresher training into the National Registry training they provide.

The 10-year refresher training will be provided by private sector training organizations in the same manner as the initial National Registry medical examiner training required for certification. Medical examiners will contact a private sector training organization directly to schedule and complete the 10-year refresher training. After successfully completing the training and uploading proof of training completion (i.e., training certificate) to their National Registry accounts on or after January 1, 2023, medical examiners will be eligible to take the 10-year recertification test. Note that medical examiners will not be able to upload proof of training and will not be able to take the 10-year recertification test until January 1, 2023, even if they completed the 10-year refresher training before January 1, 2023. The 10-year recertification test will be provided by the two FMCSA-approved testing organizations (Prometric and PSI) in the same manner as the initial National Registry medical examiner certification test.

Robin Hutcheson,
Administrator.

[FR Doc. 2023-00385 Filed 1-10-23; 8:45 am]

BILLING CODE 4910-EX-P